DEPARTMENT OF HEALTH AND HUMAN SERVICES

Centers for Disease Control and Prevention

Disease, Disability, and Injury Prevention and Control Special Emphasis Panel (SEP): Peer Review of Division of HIV/AIDS Prevention Intramural International Biomedical Interventional Research in Thailand, Kenya, Botswana and Cameroon

In accordance with Section 10(a)(2) of the Federal Advisory Committee Act (Pub. L. 92-463), the Centers for Disease Control and Prevention (CDC) announces the aforementioned meeting.

Times and Dates: 8 a.m.-5 p.m., May 2, 2007 (Closed) 8 a.m.-5 p.m., May 3, 2007 (Closed).

Place: Corporate Square, 9 Corporate Boulevard, Suite 100, Atlanta, GA 30329, telephone 404-679-7900.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of the “Division of HIV/AIDS Prevention Intramural International Biomedical Interventional Research in Thailand, Kenya, Botswana and Cameroon.”

Contact Person for More Information: Elise M. Beltrami, M.D., M.P.H., Designated Federal Official, National Center for Preparedness, Detection and Control of Infectious Diseases, Division of Healthcare Quality Promotion, CDC, 1600 Clifton Road N.E., Mailstop A-31, Atlanta, GA 30333, Telephone 404-639-4271.

The Director, Management Analysis and Services Office, has been delegated the authority to sign Federal Register notices pertaining to announcements of meetings and other committee management activities, for both CDC and the Agency for Toxic Substances and Disease Registry.

Dated: March 26, 2007.
Elaine L. Baker,
Acting Director, Management Analysis and Services Office, Centers for Disease Control and Prevention.

[FR Doc. E7-6009 Filed 3-30-07; 8:45 am]

BILLING CODE 4163-18-P